DEPARTMENT OF THE TREASURY

Internal Revenue Service

26 CFR Part 1

Income Taxes

CFR Correction

In Title 26 of the Code of Federal Regulations, Part 1 (§§ 1.301 to 1.400) revised as of April 1, 2017, on page 598, in § 1.381(c)(2)-1, paragraph (d) is removed.

[FR Doc. 2017-19397 Filed 9-12-17; 8:45 am]

BILLING CODE 1301-00-D